DEPARTMENT OF JUSTICE

Drug Enforcement Administration

Manufacturer of Controlled Substances; Notice of Registration; American Radiolabeled Chemicals, Inc.

By Notice dated December 16, 2013, and published in the Federal Register on January 2, 2014, 79 FR 151, American Radiolabeled Chemicals, Inc., 101 Arc Drive, St. Louis, Missouri 63146, made application by written correspondence to the Drug Enforcement Administration (DEA) to be registered as a bulk manufacturer of Methadone (9250), a basic class of controlled substance listed in schedule II.

The company plans to manufacture small quantities of the listed controlled substance as radiolabeled compounds for biochemical research.

No comments or objections have been received. The DEA has considered the factors in 21 U.S.C. 823(a) and determined that the registration of American Radiolabeled Chemicals, Inc. to manufacture the listed basic class of controlled substance is consistent with the public interest at this time. The DEA has investigated American Radiolabeled Chemicals, Inc. to ensure that the company's registration is consistent with the public interest. The investigation has included inspection and testing of the company's physical security systems, verification of the company's compliance with state and local laws, and a review of the company's background and history.

Therefore, pursuant to 21 U.S.C. 823(a) and in accordance with 21 CFR 1301.33, the above named company is granted registration as a bulk manufacturer of the basic class of controlled substance listed.

Dated: April 21, 2014.
Joseph T. Rannazzisi,
Deputy Assistant Administrator, Office of Diversion Control, Drug Enforcement Administration.

[FR Doc. 2014-09552 Filed 4-25-14; 8:45 am]

BILLING CODE 4410-09-P